ENVIRONMENTAL PROTECTION AGENCY

40 CFR Parts 150, 152, 154, 158, 159, 168, 170, 172, 174, 178, and 180

[EPA-HQ-OPP-2006-0403; FRL-8070-7]

Technical Amendments; Change of Address for the Office of Pesticide Programs

AGENCY: Environmental Protection Agency (EPA).

ACTION: Final rule.

SUMMARY: EPA's Office of Pesticide Programs (OPP) has relocated to new offices in Arlington, VA. OPP's official mailing address has not changed; however, the courier and in-person delivery address, the docket address, and the internal mail codes used by OPP have changed. EPA is revising references throughout its pesticide regulations to reflect these address changes.

DATES: This final rule is effective on June 21, 2006.

ADDRESSES: EPA has established a docket for this action under docket identification (ID) number EPA-HQ-OPP-2006-0403. All documents in the docket are listed in the regulations.gov website. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA 22202. The Docket Facility is open from 8:30 a.m. to 4 p.m., Monday through Friday, excluding legal holidays. The telephone number for the Docket Facility is (703) 305-5805.

FOR FURTHER INFORMATION CONTACT: Kathryn Boyle, Field and External Affairs Division (7506P), Office of Pesticide Programs, Environmental Protection Agency, 1200 Pennsylvania Ave., NW., Washington, DC 20460-0001; telephone number: (703) 305-6304; fax number: (703) 305-5884; e-mail address: boyle.kathryn@epa.gov.

SUPPLEMENTARY INFORMATION:

I. General Information

A. Does this Action Apply to Me?

You may be potentially affected by this action if you submit applications or other pesticide related information to OPP. Potentially affected entities may include, but are not limited to:

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Access Electronic Copies of this Document?

In addition to accessing an electronic copy of this Federal Register document through the electronic docket at http://www.regulations.gov, you may access this Federal Register document electronically through the EPA Internet under the “Federal Register” listings at http://www.epa.gov/fedrgstr. You may also access a frequently updated electronic version of 40 CFR parts 150, 152, 154, 158, 159, 168, 170, 172, 174, 178, and 180 through the Government Printing Office's pilot e-CFR site at http://www.gpoaccess.gov/ecfr.

II. Background

A. What Action is the Agency Taking?

OPP has relocated to new offices in Arlington, VA. This move was announced in the Federal Register of April 19, 2006 (71 FR 20089) (FRL-8065-6). Detailed information on how to contact OPP at the new location was recently provided to the public in Pesticide Registration (PR) Notice 2006-1 (April 12, 2006). PR Notice 2006-1 contains the mail codes which are to be used with submissions to OPP and is available on the Agency's website at http://www.epa.gov/PR_Notices/pr2006-1.pdf.

The Agency is now amending its pesticide regulations in parts 150-189 of the Code of Federal Regulations (CFR) to change the manner in which the addresses are referenced. Currently, there are over 20 references in 40 CFR parts 150-189 to either an address or docket location. Rather than maintain and have to update multiple address references, the Agency is creating a new § 150.17 to contain the U.S. Postal Service mailing address, the address for hand/courier delivery, and the location of the OPP Regulatory Public Docket. This means that individual addresses scattered throughout the CFR are being replaced by a reference to § 150.17.

B. What is the Agency's Authority for Taking this Action?

EPA is issuing this document under its general rulemaking authority, Reorganization Plan No. 3 of 1970 (5 U.S.C. App.).

C. Why is EPA Issuing this as a Final Rule?

Section 553 of the Administrative Procedure Act (APA), 5 U.S.C. 553(b)(3)(A), provides that an agency may issue rules of agency organization, procedure, and practice without first giving notice. This address change regulation qualifies as a rule of organization, procedure, or practice.

Additionally, section 553 of the APA, 5 U.S.C. 553(b)(3)(B), provides that, when an agency for good cause finds that notice and public procedure are impracticable, unnecessary or contrary to the public interest, the agency may issue a rule without providing notice and an opportunity for public comment. EPA has determined that there is good cause for making this rule final without prior proposal and opportunity for comment because the actions taken in this final rule represent technical amendments to the regulations and do not involve substantive Agency action. Moreover, maintaining incorrect information on how to submit documents to the Agency may have legal consequences, and may increase costs to the regulated industry.

For these reasons, notice and public procedure are unnecessary. EPA finds that this constitutes good cause under 5 U.S.C. 553(b)(3)(B).

III. Statutory and Executive Order Reviews

This final rule implements technical amendments to 40 CFR chapter I, subchapter E, to reflect the new OPP address. It does not otherwise impose or amend any requirements. As such, the Office of Management and Budget (OMB) has determined that a technical amendment is not a “significant regulatory action” subject to review by OMB under Executive Order 12866, entitled Regulatory Planning and Review (58 FR 51735, October 4, 1993). Because this rule has been exempted from review under Executive Order 12866 due to its lack of significance, this rule is not subject to Executive Order 13211, Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23, 1997). This action does not involve any technical standards that require the Agency's consideration of voluntary consensus standards pursuant to section 12(d) of the National Technology Transfer and Advancement Act of 1995 (NTTAA), Public Law 104-113, section 12(d) (15 U.S.C. 272 note).

Since this action is not subject to notice-and-comment requirements under the APA or any other statute, this action is not subject to the requirements of the Regulatory Flexibility Act (RFA) (5 U.S.C. 601 et seq.). In addition, the Agency has determined that this action will not have a substantial direct effect on States, on the relationship between the national government and the States, or on the distribution of power and responsibilities among the various levels of government, as specified in Executive Order 13132, entitled Federalism (64 FR 43255, August 10, 1999). The Agency has determined that this rule does not have any substantial direct effects on one or more Indian tribes, on the relationship between the Federal Government and the Indian tribes, or on the distribution of power and responsibilities between the Federal Government and Indian tribes as described in Executive Order 13175, entitled Consultation and Coordination with Indian Tribal Governments (65 FR 67249, November 6, 2000). Thus, Executive Order 13132 and 13175 do not apply to this rule.

IV. Congressional Review Act

Yes. The Congressional Review Act (CRA) (5 U.S.C. 801 et seq.) generally provides that before a rule may take effect, the agency promulgating the rule must submit a rule report, which includes a copy of the rule, to each House of the Congress and to the Comptroller General of the United States. Section 808 of CRA allows the issuing agency to make a rule effective sooner than otherwise provided by the CRA, if the agency makes a good cause finding that notice and public procedure is impracticable, unnecessary, or contrary to the public interest. This determination must be supported by a brief statement (5 U.S.C. 808(2)). As stated previously, EPA has made such a good cause finding, including the reasons therefore, and established an effective date of June 21, 2006. EPA will submit a report containing this rule and other required information to the U.S. Senate, the U.S. House of Representatives, and the Comptroller General of the United States prior to publication of the rule in the Federal Register. This action is not a “major rule” as defined by 5 U.S.C. 804(2).

List of Subjects in 40 CFR Parts 150, 152, 154, 158, 159, 168, 170, 172, 174, 178, 180

Environmental protection, Administrative practice and procedure, Advertising, Agricultural commodities, Confidential business information, Exports, Food additives, Intergovernmental relations, Labeling, Occupational safety and health, Pesticides and pests, Reporting and recordkeeping requirements, Research.

Dated: June 12, 2006.
Susan B. Hazen,
Acting Assistant Administrator, Office of Prevention, Pesticides and Toxic Substances.

Therefore, 40 CFR chapter I is amended as follows:

1. Part 150, consisting of § 150.17, is added to subchapter E to read as follows:

PART 150—GENERAL

Authority: Reorganization Plan No. 3 of 1970 (5 U.S.C. App.).

§ 150.17 Addresses for applications and correspondence.

The official addresses for all submissions directed to the Office of Pesticide Programs (OPP) of the Environmental Protection Agency are as follows:

(a) United States Postal Service mailing address. Office of Pesticide Programs, Environmental Protection Agency, 1200 Pennsylvania Ave., NW., Washington DC 20460-0001.

(b) Hand/courier delivery address. Office of Pesticide Programs, Environmental Protection Agency, 2777 S. Crystal Dr., Arlington, VA 22202-4501.

(c) OPP Regulatory Public Docket address. OPP Regulatory Public Docket is physically located in Rm. S-4400, One Potomac Yard (South Bldg.), 2777 S. Crystal Dr., Arlington, VA 22202-4501. This is not a mailing address.

PART 152—[AMENDED]

2. The authority citation for part 152 continues to read as follows:

Authority: 7 U.S.C. 136-136y; Subpart U is also issued under 31 U.S.C. 9701.

3. In § 152.25, revise paragraph (f)(2) to read as follows:

§ 152.25 Exemptions for pesticides of a character not requiring FIFRA regulation.

* * * * *

(f) * * *

(2) Permitted inerts. A pesticide product exempt under paragraph (f)(1) of this section may only include inert ingredients listed in the most current List 4A. This list is updated periodically. The most current list may be obtained by contacting the Registration Division at the appropriate address as set forth in 40 CFR 150.17(a) or (b).

* * * * *

4. Section152.55 is revised to read as follows:

§ 152.55 Where to send applications and correspondence.

Applications and correspondence relating to registration should be sent to the Office of Pesticide Programs' Document Processing Desk at the appropriate address as set forth in 40 CFR 150.17(a) or (b).

5. In § 152.414, revise paragraph (a)(1) and the fourth sentence in (a)(2) to read as follows:

§ 152.414 Procedures.

(a) * * *

(1) A request for a waiver must be submitted in writing at the time the application is submitted to the Office of Pesticide Programs' Document Processing Desk at the appropriate address as set forth in 40 CFR 150.17(a) or (b).

(2) * * * Since the actual fee is submitted to an address different than the one to which the waiver request is submitted, a copy of the payment document must be submitted with the waiver request that is submitted to the Office of Pesticide Programs' Document Processing Desk as described in paragraph (a)(1) of this section. * * *

* * * * *

PART 154—[AMENDED]

6. The authority citation for part 154 continues to read as follows:

Authority: 15 U.S.C. 136a, d, and w.

7. In § 154.15, revise paragraph (f)(1)(ii) to read as follows:

§ 154.15 Docket for the Special Review.

* * * * *

(f) * * *

(1) * * *

(ii) The docket and index will be available at the OPP Regulatory Public Docket located as set forth in 40 CFR 150.17(c).

* * * * *

PART 158—[AMENDED]

8. The authority citation for part 158 continues to read as follows:

Authority: 7 U.S.C. 136-136y.

9. In § 158.45, revise paragraph (d) to read as follows:

§ 158.45 Waivers.

* * * * *

(d) Availability of waiver decisions. Agency decisions under this section granting waiver requests will be available to the public at the OPP Regulatory Public Docket located as set forth in 40 CFR 150.17(c). Any person may obtain a copy of any waiver decision by written request in the manner set forth in 40 CFR part 2.

PART 159—[AMENDED]

10. The authority citation for part 159 continues to read as follows:

Authority: 7 U.S.C. 136-136y.

11. In § 159.156, remove paragraphs (a) and (b), redesignate paragraphs (c) through (k) as paragraphs (a) through (i), and revise the section's introductory text to read as follows:

§ 159.156 How information must be submitted.

A submission under FIFRA section 6(a)(2) must be delivered to the Office of Pesticide Programs' Document Processing Desk at the appropriate address as set forth in 40 CFR 150.17(a) or (b).

* * * * *

PART 168—[AMENDED]

12. The authority citation for part 168 continues to read as follows:

Authority: 7 U.S.C. 136-136y.

13. In § 168.65, revise the last sentence in the parenthetical in paragraph (b)(1)(iii)(A)(2)(i) and the parenthetical in paragraph (b)(1)(iii)(A)(2)(iii) to read as follows:

§ 168.65 Pesticide export label and labeling requirements.

* * * * *

(b) * * *

(1) * * *

(iii) * * *

(A) * * *

(2) * * *

(i) * * * The classification of inerts is explained in EPA's Policy Statement on Inert Ingredients in Pesticide Products, which can be obtained at the OPP Regulatory Public Docket located as set forth in 40 CFR 150.17(c).

* * * * *

(iii) * * * (See “Food Fragrances in Pesticide Formulations,” EPA's Office of Pesticide Programs Policy and Criteria Notice number 2155.1, November 20, 1975, which can be obtained at the OPP Regulatory Public Docket located as set forth in 40 CFR 150.17(c).)

* * * * *

14. In § 168.75, revise the last sentence in paragraph (c)(2)(i)(D), paragraph (c)(2)(ii)(D), and paragraph (c)(2)(ii)(F) to read as follows:

§ 168.75 Procedures for exporting unregistered pesticides—purchaser acknowledgement statements.

* * * * *

(c) * * *

(2) * * *

(i) * * *

(D) * * * This information must be transmitted to the Office of Pesticide Programs' Document Processing Desk at the appropriate address as set forth in 40 CFR 150.17(a) or (b), Attention: Purchaser Acknowledgement Statement.

* * * * *

(ii) * * *

(D) * * * This information must be transmitted to the Office of Pesticide Programs' Document Processing Desk at the appropriate address as set forth in 40 CFR 150.17(a) or (b), Attention: Purchaser Acknowledgement Statement.

* * * * *

(F) * * * The annual summary shall be sent to the Office of Pesticide Programs' Document Processing Desk at the appropriate address as set forth in 40 CFR 150.17(a) or (b), Attention: Annual Summary of Exports.

* * * * *

PART 170—[AMENDED]

15. The authority citation for part 170 continues to read as follows:

Authority: 7 U.S.C. 136w.

16. In § 170.112, revise the introductory text of paragraph (e)(1) to read as follows:

§ 170.112 Entry restrictions.

* * * * *

(e) * * *

(1) Exception requiring agency approval. A request for an exception must be submitted to the Office of Pesticide Programs' Document Processing Desk at the appropriate address as set forth in 40 CFR 150.17(a) or (b) and must be accompanied by two copies of the following information:

* * * * *

PART 172—[AMENDED]

17. The authority citation for part 172 continues to read as follows:

Authority: 7 U.S.C. 136c, 136w. Section 172.4 is also issued under 31 U.S.C. 9701.

18. In § 172.3, revise the fourth sentence of paragraph (d) to read as follows:

§ 172.3 Scope of requirement.

* * * * *

(d) * * * Persons intending to conduct tests who are uncertain whether the testing may be conducted without a permit may submit a request for determination to the Office of Pesticide Programs' Document Processing Desk at the appropriate address as set forth in 40 CFR 150.17(a) or (b). * * *

* * * * *

19. In § 172.4, revise paragraph (a) to read as follows:

§ 172.4 Applications.

(a) Time for submission. An application or request for amendment to an existing permit shall be submitted as far as possible in advance of the intended date of shipment or use to the Office of Pesticide Programs' Document Processing Desk at the appropriate address as set forth in 40 CFR 150.17(a) or (b).

* * * * *

20. In § 172.46, revise paragraph (b) to read as follows:

§ 172.46 Submission of a notification.

* * * * *

(b) Where to submit a notification. A notification shall be submitted to the Office of Pesticide Programs' Document Processing Desk at the appropriate address as set forth in 40 CFR 150.17(a) or (b), Attention: Biotechnology Notification Review.

* * * * *

21. In § 172.52, revise paragraph (b)(2) to read as follows:

§ 172.52 Notification exemption process.

* * * * *

(b) * * *

(2) Where to submit a petition. All petitions shall be submitted to the Office of Pesticide Programs' Document Processing Desk at the appropriate address as set forth in 40 CFR 150.17(a) or (b).

* * * * *

PART 174—[AMENDED]

22. The authority citation for part 174 continues to read as follows:

Authority: 7 U.S.C. 136-136y; 21 U.S.C. 346a and 371.

23. In § 174.71, revise paragraph (d) to read as follows:

§ 174.71 Submission of information regarding adverse effects.

* * * * *

(d) Reports and questions should be submitted to the Office of Pesticide Programs' Document Processing Desk at the appropriate address as set forth in 40 CFR 150.17(a) or (b).

PART 178—[AMENDED]

24. The authority citation for part 178 continues to read as follows:

Authority: 21 U.S.C. 346a, 371(a); Reorg. Plan No. 3 of 1970.

25. In § 178.25, revise paragraphs (b) (1) and (b)(2) to read as follows:

§ 178.25 Form and manner of submission of objections.

* * * * *

(b) * * *

(1) Mailed submissions should be addressed to: Office of the Hearing Clerk (1900L), Environmental Protection Agency, 1200 Pennsylvania Ave., NW., Washington, DC 20460-0001.

(2) For hand/courier delivery the Office of the Hearing Clerk is located at Suite 350, 1099 14th St., NW., Washington, DC 20005.

PART 180—[AMENDED]

26. The authority citation for part 180 continues to read as follows:

Authority: 21 U.S.C. 321(q), 346a and 371.

27. In § 180.33, revise the second sentence of paragraph (l) and the fourth sentence of paragraph (m) to read as follows:

§ 180.33 Fees.

* * * * *

(l) * * * A request for waiver or refund of a fee shall be submitted to the Office of Pesticide Programs' Document Processing Desk at the appropriate address as set forth in 40 CFR 150.17(a) or (b). * * *

(m) * * * The actual letter or petition, along with supporting data, shall be forwarded within 30 days of payment to the Office of Pesticide Programs' Document Processing Desk at the appropriate address as set forth in 40 CFR 150.17(a) or (b). * * *

* * * * *

[FR Doc. E6-9750 Filed 6-20-06; 8:45 am]

BILLING CODE 6560-50-S